DEPARTMENT OF THE INTERIOR

National Park Service

Notice of Intent to Repatriate Cultural Items: UCLA Fowler Museum of Cultural History, University of California, Los Angeles, Los Angeles, CA, and California Department of Parks and Recreation, Sacramento, CA

AGENCY: National Park Service, Interior.

ACTION: Notice.

Notice is here given in accordance with the Native American Graves Protection and Repatriation Act (NAGPRA), 25 U.S.C. 3005, of the intent to repatriate cultural items in the possession of the UCLA Fowler Museum of Cultural History, University of California, Los Angeles, Los Angeles, CA, and in the control of the California Department of Parks and Recreation, Sacramento, CA, that meet the definition of “unassociated funerary objects” under 25 U.S.C. 3001. The unassociated funerary objects were removed from Anza-Borrego Desert State Park, San Diego County, CA.

This notice is published as part of the National Park Service's administrative responsibilities under NAGPRA, 25 U.S.C. 3003(d)(3). The determinations within this notice are the sole responsibility of the museum, institution, or Federal agency that has control of the cultural items. The National Park Service is not responsible for the determinations within this notice.

The 592 cultural items are 337 animal bones, 4 glass bottle fragments, 1 modified glass fragment, 6 unidentified glass fragments, 1 burned clay fragment, 1 metal button, 1 cog stone, 1 bone scraper fragment, 44 stone flakes, 189 ceramic sherds and fragments, 2 shell fragments, 1 ceramic pipe fragment, and 4 projectile point fragments.

In January and March of 1958, Dr. Clement Meighan, of the University of California, Los Angeles, and his students removed human remains and funerary objects from several sites in Anza-Borrego Desert State Park, San Diego County, CA, during a survey project supported by the California Department of Parks and Recreation. The human remains and associated funerary objects are described in a companion notice of inventory completion. The unassociated funerary objects were collected from two apparent cremation sites within Anza-Borrego Desert State Park. Dr. Meighan and his students collected 89 ceramic sherds and 24 stone flakes from site CA-SDI-443, also known as SF-74, and 335 heavily burned and 2 unburned animal bones, 100 ceramic sherds and fragments, 20 stone flakes, 7 glass fragments, 4 projectile point fragments, 4 glass bottle fragments, 2 shell fragments, 1 ceramic pipe fragment, 1 bone scraper fragment, 1 burned clay fragment, 1 metal button, 1 cog stone, and 1 bone scraper from site CA-SDI-489.

According to Dr. Clement Meighan in a 1959 article “Archaeological Resources of Borrego Desert State Park,” the two sites from which the cultural items were removed are located in an area formerly occupied by two Yuman groups, the Northern Digueno and the Kamia, both of which are ancestral to present-day Kumeyaay groups. Also according to Dr. Meighan, “the sites seem to belong to the pottery-using period, which is to say since about 1000 A.D.” Some sites in the area have been dated into the Historic period. A spokesman for the Kumeyaay Cultural Repatriation Committee also identified Anza-Borrego Desert State Park as within the traditional territory of the Kumeyaay. The artifacts are consistent with others documented as associated with the indigenous inhabitants of the area. The Kumeyaay Indians are represented by the present-day Indian tribes that are members of the Kumeyaay Cultural Repatriation Committee.

Officials of the California Department of Parks and Recreation have determined that, pursuant to 25 U.S.C. 3001(3)(B), the cultural items described above are reasonably believed to have been placed with or near individual human remains at the time of death or later as part of the death rite or ceremony and are believed, by a preponderance of the evidence, to have been removed from a specific burial site of a Native American individual. Officials of the California Department of Parks and Recreation also have determined that, pursuant to 25 U.S.C. 3001(2), there is a relationship of shared group identity that can be reasonably traced between the unassociated funerary objects and the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California.

Representatives of any other Indian tribe that believes itself to be culturally affiliated with the unassociated funerary objects should contact Paulette Hennum, NAGPRA Coordinator, Cultural Resources Division, California State Parks, P.O. Box 942896, Sacramento, CA 94296-0001, telephone (916) 653-7976, before November 7, 2003. Repatriation of the unassociated funerary objects to the Kumeyaay Cultural Repatriation Committee on behalf of the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California may proceed after that date if no additional claimants come forward.

The California Department of Parks and Recreation is responsible for notifying the Kumeyaay Cultural Repatriation Committee, the Barona Group of Capitan Grande Band of Mission Indians of the Barona Reservation, California; Campo Band of Diegueno Mission Indians of the Campo Indian Reservation, California; Cuyapaipe Community of Diegueno Mission Indians of the Cuyapaipe Reservation, California; Inaja Band of Diegueno Mission Indians of the Inaja and Cosmit Reservation, California; Jamul Indian Village of California; La Posta Band of Diegueno Mission Indians of the La Posta Indian Reservation, California; Manzanita Band of Diegueno Mission Indians of the Manzanita Reservation, California; Mesa Grande Band of Diegueno Mission Indians of the Mesa Grande Reservation, California; San Pasqual Band of Diegueno Mission Indians of California; Santa Ysabel Band of Diegueno Mission Indians of the Santa Ysabel Reservation, California; Sycuan Band of Diegueno Mission Indians of California; and Viejas (Baron Long) Group of Capitan Grande Band of Mission Indians of the Viejas Reservation, California that this notice has been published.

Dated: August 6, 2003.
John Robbins,
Assistant Director, Cultural Resources.

[FR Doc. 03-25536 Filed 10-7-03; 8:45 am]

BILLING CODE 4310-70-S